DEPARTMENT OF ENERGY

International Energy Agency Meetings

AGENCY: Department of Energy.

ACTION: Notice of meetings.

SUMMARY: The Industry Advisory Board (IAB) to the International Energy Agency (IEA) will meet on June 24, 2013, at the headquarters of the IEA in Paris, France in connection with a joint meeting of the IEA's Standing Group on Emergency Questions (SEQ) and the IEA's Standing Group on the Oil Market, and on June 25 and 26, in connection with a meeting of the SEQ.

DATES: June 24-26, 2013.

ADDRESSES: 9, rue de la Fédération, Paris, France.

FOR FURTHER INFORMATION CONTACT: Diana D. Clark, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on June 24, 2013, beginning at 2:00 p.m. and on June 25 commencing at 9:30 a.m. and continuing on June 26, commencing at 9:30 a.m. The purpose of this notice is to permit attendance by representatives of U.S. company members of the IAB at a joint meeting of the IEA's Standing Group on Emergency Questions (SEQ) and the IEA's Standing Group on the Oil Markets on June 24 commencing at 2 p.m.; and at a meeting of the SEQ commencing at 9:30 a.m..on June 25 and continuing on June 26 commencing at 9:30 a.m. The IAB will also hold a preparatory meeting among company representatives at the same location at 8:30 a.m. on June 25. The agenda for this preparatory meeting is to review the agenda for the SEQ meeting.

The agenda of the joint meeting of the SEQ and the SOM on June 24 is under the control of the SEQ and the SOM. It is expected that the SEQ and the SOM will adopt the following agenda:

1. Adoption of the Agenda

2. Approval of the Summary Record of the March 2013 Joint Session

3. Reports on Recent Oil Market and Policy Developments in IEA Countries

4. Report on Medium Term Oil Market Report

5. Report on Medium Term Gas Market Report

6. Implications for Energy Security

7. Other Business

—Tentative schedule of upcoming SEQ and SOM meetings: October 16-October 17, 2013

The agenda of the SEQ meeting on June 25 and 26 is under the control of the SEQ. It is expected that the SEQ will adopt the following agenda:

1. Adoption of the Agenda

2. Approval of the Summary Record of the 138th Meeting

3. Status of Compliance with IEP Stockholding Commitments

4. Emergency Response Review Program

— Schedule of Emergency Response Reviews

—Emergency Response Questionnaire

—Publication Plan for Energy Supply Security 2013

—Emergency Response Review of Estonia

5. Emergency Response Measures

—Costs & Benefits of Stockholding (Final Report)

6. Model of Short-term Energy Security (MOSES)

7. Policy and Other Developments in Member Countries

—Mid-Term Emergency Response Review of Denmark

—Mid-Term Emergency Response Review of Norway

—Mid-Term Emergency Response Review of Poland

8. Report from the Industry Advisory Board

9. Activities with International Organizations and Partner Countries

—Association Initiative

—Overview of Cooperation with China, India, Indonesia, Thailand

10. Documents for Information

—Emergency Reserve and Net Import Situations of IEA Member Countries on April 1, 2013

—Base Period Final Consumption: 2Q 2012-1Q 2013

—Updated Emergency Contacts List

11. Other Business

—Tentative Schedule of Next Meetings:

—October 16-17, 2013

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accountability Office, Committees of Congress, the IEA, and the European Commission; and invitees of the IAB, the SEQ, the SOM, or the IEA.

Issued in Washington, DC, June 12, 2013.
Diana D. Clark,
Assistant General Counsel for International and National Security Programs.

[FR Doc. 2013-14462 Filed 6-17-13; 8:45 am]

BILLING CODE 6450-01-P